DEPARTMENT OF TRANSPORTATION

Federal Aviation Administration

14 CFR Part 39

[Docket No. FAA-2007-29335; Directorate Identifier 2007-NM-045-AD]

RIN 2120-AA64

Airworthiness Directives; McDonnell Douglas Model DC-9-81 (MD-81), DC-9-82 (MD-82), DC-9-83 (MD-83), DC-9-87 (MD-87), and MD-88 Airplanes

AGENCY: Federal Aviation Administration (FAA), Department of Transportation (DOT).

ACTION: Notice of proposed rulemaking (NPRM); extension of comment period.

SUMMARY: This document extends the comment period for the above-referenced NPRM, which proposes the adoption of a new airworthiness directive (AD) that applies to all McDonnell Douglas Model DC-9-81 (MD-81), DC-9-82 (MD-82), DC-9-83 (MD-83), DC-9-87 (MD-87), and MD-88 airplanes. The NPRM would require repetitive inspections for cracking of the overwing frames from stations 845 to 905 (MD-87 stations 731 to 791), left and right sides, and corrective actions if necessary. The NPRM results from reports of cracked overwing frames. This extension of the comment period is necessary to ensure that all interested persons have ample opportunity to submit any written relevant data, views, or arguments regarding the NPRM.

DATES: We must receive comments on this NPRM by December 3, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024).

FOR FURTHER INFORMATION CONTACT: Roger Durbin, Aerospace Engineer, Airframe Branch, ANM-120L, FAA, Los Angeles Aircraft Certification Office, 3960 Paramount Boulevard, Lakewood, California 90712-4137; telephone (562) 627-5233; fax (562) 627-5210.

SUPPLEMENTARY INFORMATION: We proposed to amend 14 CFR part 39 with a notice of proposed rulemaking (NPRM) for an AD (the “original NPRM”) for all McDonnell Douglas Model DC-9-81 (MD-81), DC-9-82 (MD-82), DC-9-83 (MD-83), DC-9-87 (MD-87), and MD-88 airplanes. The original NPRM was published in the Federal Register on September 28, 2007 (72 FR 55111). The original NPRM proposed to require repetitive inspections for cracking of the overwing frames from stations 845 to 905 (MD-87 stations 731 to 791), left and right sides, and corrective actions if necessary. The original NPRM also invites comments on its overall regulatory, economic, environmental, and energy aspects.

Events Leading to Extension of Comment Period

Since we issued the NPRM, the DOT's Docket Management System (DMS) was replaced by the Federal Docket Management System (FDMS). FDMS is a government-wide, electronic docket management system, which contains the public dockets and is the method used for submitting comments on the overall regulatory, economic, environmental, and energy aspects of proposed rulemaking actions. However, due to the service disruption caused by the transition from DOT's DMS to the FDMS, the docket material was not posted on the FDMS until November 1, 2007. Therefore, we have determined that the public was not provided adequate opportunity to submit comments on the NPRM. As a result, we have decided to extend the comment period for this NPRM until December 3, 2007, to receive additional comments.

FAA's Determination

We have considered this issue and find it appropriate to extend the comment period to give all interested persons additional time to examine the proposed requirements of the original NPRM and submit comments. After evaluating the circumstances stated previously, we have determined that extending the comment period until December 3, 2007, will not compromise the safety of these airplanes.

Extension of Comment Period

The comment period for Docket No. FAA-2007-29335; Directorate Identifier 2007-NM-045-AD; has been revised. The comment period now closes December 3, 2007.

No other part of the regulatory information has been changed; therefore, the original NPRM is not republished in the Federal Register.

Issued in Renton, Washington, on November 7, 2007.
Ali Bahrami,
Manager, Transport Airplane Directorate, Aircraft Certification Service.

[FR Doc. 07-5654 Filed 11-9-07; 10:10 am]

BILLING CODE 4910-13-P